DEPARTMENT OF THE INTERIOR

Office of the Secretary

[DOI-2020-0019; 21XD4523WS, DWSPF0000.XD0000, DS67010000, DP67012]

Privacy Act of 1974; System of Records

AGENCY: Office of the Secretary, Interior.

ACTION: Notice of modified systems of records.

SUMMARY: Pursuant to the provisions of the Privacy Act of 1974, as amended, and the Office of Management and Budget (OMB) Memorandum M-17-12, Preparing for and Responding to a Breach of Personally Identifiable Information, the Department of the Interior (DOI) is issuing a public notice of its intent to modify Departmental and bureau and office system of records notices to add a new breach routine use to ensure that the DOI can assist another agency in responding to a confirmed or suspected breach of personally identifiable information, as appropriate.

DATES: This notice will be effective upon publication. New or modified routine uses will be effective October 7, 2021. Submit comments on or before October 7, 2021.

ADDRESSES: You may send comments identified by docket number [DOI-2020-0019] by any of the following methods:

• Federal eRulemaking Portal: http://www.regulations.gov. Follow the instructions for sending comments.

• Email: DOI_Privacy@ios.doi.gov. Include docket number [DOI-2020-0019] in the subject line of the message.

• U.S. Mail or Hand Delivery: Teri Barnett, Departmental Privacy Officer, U.S. Department of the Interior, 1849 C Street NW, Room 7112, Washington, DC 20240.

Instructions: All submissions received must include the agency name and docket number [DOI-2020-0019]. All comments received will be posted without change to http://www.regulations.gov, including any personal information provided.

Docket: For access to the docket to read background documents or comments received, go to http://www.regulations.gov.

FOR FURTHER INFORMATION CONTACT: Teri Barnett, Departmental Privacy Officer, U.S. Department of the Interior, 1849 C Street NW, Room 7112, Washington, DC 20240, DOI_Privacy@ios.doi.gov or (202) 208-1605.

SUPPLEMENTARY INFORMATION:

I. Background

On May 22, 2007, OMB issued Memorandum M-07-16, Safeguarding Against and Responding to the Breach of Personally Identifiable Information, which required Federal agencies to publish a routine use for their systems of records specifically applying to the disclosure of information in connection with response and remedial efforts in the event of a breach of personally identifiable information. Several DOI bureaus and offices published System of Records Notices (SORNs) in the Federal Register in 2008 to modify DOI bureau and office systems of records by adding a routine use in their “ROUTINE USES” section to address the limited disclosure of records related to a suspected or confirmed breach within DOI consistent with OMB M-07-16. All new and significantly modified SORNs published by the DOI, or its bureaus and offices, since that time included a breach response routine use consistent with the requirements outlined in OMB M-07-16.

On January 3, 2017, OMB issued Memorandum M-17-12, Preparing for and Responding to a Breach of Personally Identifiable Information, which rescinded and replaced OMB M-07-16. This memorandum requires agencies to publish two routine uses for their systems of records specifically applying to the disclosure of information in connection with response and remedial efforts in the event of a breach of personally identifiable information. Specifically, OMB M-17-12 requires that agency Senior Agency Officials for Privacy ensure that their agency SORNs include routine uses for the disclosure of information necessary to respond to that agency's breach of PII. Additionally, OMB M-17-12 requires that a breach routine use be added to all agency SORNs to ensure that agencies are able to disclose records in their systems of records to another Federal agency that may reasonably be needed by that agency to respond to a breach of PII. DOI is issuing two separate notices in the Federal Register to modify existing DOI SORNs to satisfy the two breach routine use requirements outlined in OMB M-17-12.

DOI is publishing this notice to modify the DOI SORNs identified below to add a new breach routine use for the limited disclosure of records that may reasonably be needed by another agency to respond to a breach. The DOI SORNs for other DOI, bureau and office systems of records that are omitted from this notice have incorporated the new breach routine use, are being rescinded, or are being modified separately to ensure continuity with their previous notice publications. DOI is publishing a notice elsewhere in the Federal Register to revise DOI bureau and office SORNs to include the required breach routine use to comply with OMB M-17-12 for the bureau and office systems of records for the disclosure of information necessary for DOI to respond to a breach of PII.

This notice adds the new mandatory breach routine use to the DOI systems of records listed below to ensure that the Department can assist another agency in responding to a confirmed or suspected breach, as appropriate, pursuant to OMB M-17-12, Preparing for and Responding to a Breach of Personally Identifiable Information.

1 INTERIOR/BIA-2, Safety Records System | 74 FR 26254 (June 1, 2009).
2 INTERIOR/BIA-04, Trust Asset and Accounting Management System (TAAMS) | 79 FR 68292 (November 14, 2014).
3 INTERIOR/BIA-7, Tribal Enrollment Reporting and Payment System | 76 FR 59733 (September 27, 2011).
4 INTERIOR/BIA-8, Financial Assistance and Social Services—Case Management System | 76 FR 56787 (September 14, 2011).
5 INTERIOR/BIA-10, Indian Housing Improvement Program | 48 FR 41104 (September 13, 1983).
6 INTERIOR/BIA-11, Indian Business Development Program (Grants) | 48 FR 41104 (September 13, 1983).
7 INTERIOR/BIA-12, Indian Trust Land Mortgages | 48 FR 41105 (September 13, 1983).
8 INTERIOR/BIA-22, Native American Student Information System (NASIS) | 73 FR 40605 (July 15, 2008).
9 INTERIOR/BIA-26, Electrical Utility Management System | 79 FR 24002 (April 29, 2014).
10 INTERIOR/BIA-27, Bureau of Indian Affairs Probate Files | 72 FR 8767 (February 27, 2007).
11 INTERIOR/BIA-34, National Irrigation Information Management System (NIIMS) | 78 FR 7804 (February 4, 2013).
12 INTERIOR/LLM-2, Range Management System | 75 FR 82061 (December 29, 2010).
13 INTERIOR/BLM-3, Mineral Lease Management | 47 FR 55317 (December 8, 1982); modification published 73 FR 17376 (April 1, 2008).
14 INTERIOR/BLM-4, Coal Lease Data System | 47 FR 55317 (December 8, 1982); modification published 73 FR 17376 (April 1, 2008).
15 INTERIOR/BLM-6, Mineral Surveyor Appointment File | 51 FR 25107 (Jul 10, 1986); modification published 73 FR 17376 (April 1, 2008).
16 INTERIOR/BLM-8, Aircraft Passenger Manifest Records—Fire Control | 42 FR 19112 (April 11, 1977); modification published 73 FR 17376 (April 1, 2008).
17 INTERIOR/BLM-10, Vehicle Use Authorization | 42 FR 19113 (April 11, 1977); modification published 73 FR 17376 (April 1, 2008).
18 INTERIOR/BLM-15, Correspondence Control | 42 FR 19114 (April 11, 1977); modification published 73 FR 17376 (April 1, 2008).
19 INTERIOR/BLM-16, Timber Sale Information System (TSIS) | 75 FR 3919 (January 25, 2010).
20 INTERIOR/BLM-18, Criminal Case Investigation | 47 FR 55322 (December 8, 1982); modification published 73 FR 17376 (April 1, 2008).
21 INTERIOR/BLM-19, Civil Trespass Case Investigations | 47 FR 55322 (December 8, 1982); modification published 73 FR 17376 (April 1, 2008).
22 INTERIOR/BLM-20, Employee Conduct Investigations | 42 FR 19116 (April 11, 1977); modification published 73 FR 17376 (April 1, 2008).
23 INTERIOR/BLM-28, Adopt a Wild Horse | 51 FR 25111 (July 10, 1977); modification published 73 FR 17376 (April 1, 2008).
24 INTERIOR/BLM-30, Uniform Accountability System | 52 FR 36635 (September 30, 1987); modification published 73 FR 17376 (April 1, 2008).
25 INTERIOR/LLM-32, Land & Minerals Authorization Tracking System | 56 FR 5014 (February 7, 1991); modification published 73 FR 17376 (April 1, 2008).
26 INTERIOR/LLM-37, Wild Horse & Burro Program System (WHBPS) | 72 FR 67956 (December 3, 2007); modification published 73 FR 17376 (April 1, 2008).
27 INTERIOR/BLM-40, Incident Qualification and Certification System (IQCS) | 73 FR 6996 (February 6, 2008).
28 INTERIOR/BLM-42, General Land Office Records Automation System (GLORAS) | 79 FR 30158 (May 27, 2014).
29 INTERIOR/WBR-5, Claims | 64 FR 13234 (March 17, 1999); modification published 73 FR 20949 (April 17, 2008).
30 INTERIOR/WBR-7, Concessions | 64 FR 69032 (December 9, 1999); modification 73 FR 20949 (April 17, 2008).
31 INTERIOR/WBR-13, Irrigation Management Service | 64 FR 29876 (June 3, 1999); modification published 73 FR 20949 (April 17, 2008).
32 INTERIOR/WBR-31, Acreage Limitation | 64 FR 13235 (March 17, 1999); modification published 73 FR 20949 (April 17, 2008).
33 INTERIOR/WBR-38, Water Right Applications | 64 FR 29876 (June 3, 1999); modification published 73 FR 20949 (April 17, 2008).
34 INTERIOR/WBR-39, Water Rights Acquisition | 64 FR 29876 (June 3, 1999); modification published 73 FR 20949 (April 17, 2008).
35 INTERIOR/WBR-40, Water Sales and Delivery Contracts | 64 FR 29876 (June 3, 1999); modification published 73 FR 20949 (April 17, 2008).
36 INTERIOR/WBR-48, Lower Colorado River Well Inventory | 64 FR 29874 (June 3, 1999); modification published 73 FR 20949 (April 17, 2008).
37 INTERIOR/OS-09, Hearings and Appeals Files | 80 FR 26291 (May 7, 2015).
38 INTERIOR/OS-30, Minerals Revenue Management Support System (MRMSS) | 81 FR 16207 (March 25, 2016).
39 INTERIOR/OIG-1, Management Information | 55 FR 14480 (April 18, 1990).
40 INTERIOR/OIG-2, Investigative Records | 76 FR 60519 (September 29, 2011).
41 INTERIOR/OS-10, Electronic Email Archive System (EEAS) | 68 FR 4220 (January 28, 2003); modification published 73 FR 8342 (February 13, 2008).
42 INTERIOR/OS-12, Official Pilot Folders | 74 FR 49004 (September 25, 2009).
43 INTERIOR/OS-13, Aircraft Administrative Management and Fiscal Records | 74 FR 49002 (September 25, 2009).
44 INTERIOR/OS-14, Take Pride In America System | 68 FR 39958 (July 3, 2003); modification published 73 FR 8342 (February 13, 2008).
45 INTERIOR/OS-20, Secretarial Controlled Correspondence File | 64 FR 20013 (April 23, 1999); modification published 73 FR 8342 (February 13, 2008).
46 INTERIOR/OS-21, Office of Insular Affairs Programs | 78 FR 17705 (March 22, 2013).
47 INTERIOR/OS-25, Youth Conservation Corps (YCC) Enrollee Records | 56 FR 41700 (August 22, 1991).
48 INTERIOR/OS-26, Youth Conservation Corps (YCC), Enrollee Payroll Recorder File | 56 FR 41700 (August 22, 1991).
49 INTERIOR/OS-27, Youth Conservation Corps (YCC) Enrollee Medical Records | 56 FR 41700 (August 22, 1991).
50 INTERIOR/OS-29, Youth Conservation Corps (YCC) Recruitment Files | 51 FR 36862 (October 16, 1986).
51 INTERIOR/OS-35, Library Circulation Control System | 64 FR 16988 (April 7, 1999); modification published 73 FR 8342 (February 13, 2008).
52 INTERIOR/OS-46, Secretarial Subject Files | 64 FR 16983 (April 7, 1999); modification published 73 FR 8342 (February 13, 2008).
53 INTERIOR/OS-47, Parking Assignment Records | 64 FR 16984 (April 7, 1999); modification published 73 FR 8342 (February 13, 2008).
54 INTERIOR/OS-51, Property Accountability and Control System | 64 FR 17404 (April 9, 1999); modification published 73 FR 8342 (February 13, 2008).
55 INTERIOR/OS-69, Freedom of Information Appeals Files | 64 FR 16986 (April 7, 1999).
56 INTERIOR/OS-84, Delinquent Debtor File | 64 FR 18436 (April 14, 1999); modification published 73 FR 8342 (February 13, 2008).
57 INTERIOR/DOI-01, Interior Child Care Subsidy Program Records | 66 FR 10309 (February 14, 2001); modification published 73 FR 8342 (February 13, 2008).
58 INTERIOR/DOI-02, Interior Relocation Assistance Program Records | 73 FR 55125 (September 24, 2008).
59 INTERIOR/DOI-04, Employee Assistance Program Records | 64 FR 20011 (April 23, 1999); modification published 73 FR 8342 (February 13, 2008).
60 INTERIOR/DOI-05, Interior Volunteer Services File System | 66 FR 28536 (May 23, 2001).
61 INTERIOR/DOI-06, America the Beautiful—The National Parks and Federal Recreational Lands Pass System | 80 FR 63246 (October 19, 2015).
62 INTERIOR/DOI-07, Federal and Non-Federal Aviation Personnel, Equipment, and Mishap Information Systems | 74 FR 48774 (September 24, 2009).
63 INTERIOR/DOI-08, DOI Social Networks | 76 FR 44033 (July 22, 2011).
64 INTERIOR/DOI-10, Incident Management, Analysis and Reporting System | 79 FR 31974 (June 3, 2014).
65 INTERIOR/DOI-11, Debarment and Suspension Program | 76 FR 52341 (August 22, 2011).
66 INTERIOR/DOI-18, Civil Rights Complaints and Compliance Review Files | 73 FR 19088 (April 8, 2008).
67 INTERIOR/DOI-24, Indian Arts and Crafts Board | 80 FR 27700 (May 14, 2015).
68 INTERIOR/DOI-36, Telephone Call Detail Records | 59 FR 7260 (February 15, 1994); modification published 73 FR 8342 (February 13, 2008).
69 INTERIOR/DOI-45, HSPD-12: Identity Management System and Personnel Security Files | 72 FR 11036 (March 12, 2007).
70 INTERIOR/DOI-47, HSPD-12: Logical Security Files (Enterprise Access Control Service/EACS) | 72 FR 11040 (March 12, 2007).
71 INTERIOR/DOI-52, Passport and Visa Records | 64 FR 16981 (April 7, 1999); modification published 73 FR 8342 (February 13, 2008) and 74 FR 34588 (July 16, 2009).
72 INTERIOR/DOI-57, Privacy Act Files | 81 FR 45527 (July 14, 2016).
73 INTERIOR/DOI-58, Employee Administrative Records | 64 FR 19384 (April 20, 1999); modification published 73 FR 8342 (February 13, 2008).
74 INTERIOR/DOI-60, Safety Management Information System | 81 FR 73135 (October 24, 2016).
75 INTERIOR/DOI-71, Electronic FOIA Tracking System and FOIA Case Files | 81 FR 33544 (May 26, 2016).
76 INTERIOR/DOI-72, FECA Chargeback Case Files | 64 FR 19380 (April 20, 1999); modification published 73 FR 8342 (February 13, 2008).
77 INTERIOR/DOI-74, Grievance Records | 64 FR 19381 (April 20, 1999); modification published 73 FR 8342 (February 13, 2008).
78 INTERIOR/DOI-76, Employee Training and Career Development Records | 64 FR 26999 (May 18, 1999); modification published 73 FR 8342 (February 13, 2008).
79 INTERIOR/DOI-77, Unfair Labor Practice Charges/Complaints Files | 64 FR 18434 (April 14, 1999); modification published 73 FR 8342 (February 13, 2008).
80 INTERIOR/DOI-78, Negotiated Grievance Procedure Files | 64 FR 19383 (April 20, 1999); modification published 73 FR 8342 (February 13, 2008).
81 INTERIOR/DOI-82, Executive Development Programs Files | 64 FR 20014 (April 23, 1999); modification published 73 FR 8342 (February 13, 2008).
82 INTERIOR/DOI-86, Accounts Receivable: FBMS | 73 FR 43772 (July 28, 2008).
83 INTERIOR/DOI-87, Acquisition of Goods and Services: FBMS | 73 FR 43766 (July 28, 2008).
84 INTERIOR/DOI-88, Travel Management: FBMS | 73 FR 43769 (July 28, 2008).
85 INTERIOR/DOI-89, Grants and Cooperative Agreements: FBMS | 73 FR 43755 (July 28, 2008).
86 INTERIOR/DOI-91, Oracle Federal Financials (OFF) | 80 FR 66551 (October 29, 2015).
87 INTERIOR/NPS-6, Audiovisual Performance Selection Files | 42 FR 19073 (April 11, 1977), modification published 73 FR 63992 (October 28, 2008).
88 INTERIOR/NPS-7, National Park Service Historical Library | 48 FR 51699 (November 10, 1983), modification published 73 FR 63992 (October 28, 2008).
89 INTERIOR/NPS-8, Property and Supplies Accountability | 48 FR 51700 (November 10, 1983), modification published 73 FR 63992 (October 28, 2008).
90 INTERIOR/NPS-10, Central Files | 42 FR 19075 (April 11, 1977), modification published 73 FR 63992 (October 28, 2008).
91 INTERIOR/NPS-12, U.S. Park Police Personnel Photograph File | 64 FR 66196 (November 24, 1999), modification published 73 FR 63992 (October 28, 2008).
92 INTERIOR/NPS-13, Concessioners | 48 FR 51700 (November 10, 1983), modification published 73 FR 63992 (October 28, 2008).
93 INTERIOR/NPS-14, Concessioner Financial Statement and Audit Report Files | 48 FR 51701 (November 10, 1983), modification published 73 FR 63992 (October 28, 2008).
94 INTERIOR/NPS-15, Concessions Management Files | 48 FR 51701 (November 10, 1983), modification published 73 FR 63992 (October 28, 2008).
95 INTERIOR/NPS-21, Visitor Statistical Survey Forms | 48 FR 51705 (November 10, 1983), modification published 73 FR 63992 (October 28, 2008).
96 INTERIOR/NPS-22, Motor Vehicle Operations Program | 48 FR 51705 (November 10, 1983), modification published 73 FR 63992 (October 28, 2008).
97 INTERIOR/NPS-23, Planning, Environment and Public Comment (PEPC) System | 79 FR 30641 (May 28, 2014).
98 INTERIOR/NPS-24, Commercial Use Authorization (CUA) System | 78 FR 20944 (April 8, 2013).
99 INTERIOR/OSM-8, Employment and Financial Interest Statements—States and Other Federal Agencies | 64 FR 17412 (April 9, 1999); modification published 73 FR 45244 (August 4, 2008).
100 INTERIOR/OSM-12, Blaster Certification | 64 FR 17413 ( April 9, 1999); modification published 73 FR 45244 (August 4, 2008).
101 INTERIOR/SOL-1, Litigation, Appeal and Case Files | 46 FR 12146 (February 12, 1981).
102 INTERIOR/SOL-2, Claims Files | 46 FR 12146 (February 12, 1981).
103 INTERIOR/SOL-3, Patent Files | 42 FR 18968 (April 11, 1977).
104 INTERIOR/SOL-4, Workload Analysis | 46 FR 12146 (February 12, 1981).
105 INTERIOR/SOL-5, SMCRA Litigation Tracking System (LTS) | 54 FR 7485 (February 21, 1989).

ROUTINE USES OF RECORDS MAINTAINED IN THE SYSTEM, INCLUDING CATEGORIES OF USERS AND THE PURPOSES OF SUCH USES:

To another Federal agency or Federal entity, when DOI determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

Teri Barnett,
Departmental Privacy Officer, Department of the Interior.

[FR Doc. 2021-19171 Filed 9-3-21; 8:45 am]

BILLING CODE 4334-63-P